FEDERAL COMMUNICATIONS COMMISSION

Sunshine Act Meeting

FCC to Hold Open Commission Meeting Tuesday, December 21, 2010

The Federal Communications Commission will hold an Open Meeting on the subjects listed below on Tuesday, December 21, 2010, which is scheduled to commence at 10:30 a.m. in Room TW-C305, at 445 12th Street, SW., Washington, DC.

Item No. | Bureau | Subject
1 | Public Safety and Homeland Security | Title: Framework for Next Generation 911 Deployment.
|  | Summary: The Commission will consider a Notice of Inquiry concerning the transition from the current, voice-only 911 system to a broadband-enabled, next-generation 911 system.
2 | Wireline Competition and Wireless Tele-communications | Title: Preserving the Open Internet (GN Docket No. 09-191); Broadband Industry Practices (WC Docket No. 07-52).
|  | Summary: The Commission will consider a Report and Order adopting basic rules of the road to preserve the open Internet as a platform for innovation, investment, competition, and free expression.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 2010-31988 Filed 12-16-10; 4:15 pm]

BILLING CODE 6712-01-P